ENVIRONMENTAL PROTECTION AGENCY

[OPPT-2005-0020; FRL-7708-8]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from February 21, 2005 to March 15, 2005, consists of the PMNs and TMEs, both pending or expired, and the notices of commencement to manufacture a new chemical that the Agency has received under TSCA section 5 during this time period.

DATES: Comments identified by the docket ID number OPPT-2004-0020 and the specific PMN number or TME number, must be received on or before May 9, 2005.

ADDRESSES: Comments may be submitted electronically, by mail, or through hand delivery/courier. Follow the detailed instructions as provided in Unit I. of the SUPPLEMENTARY INFORMATION.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Copies of this Document and Other Related Information?

1. Docket. EPA has established an official public docket for this action under docket identification (ID) number OPPT-2004-0020. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and To Whom Do I Submit Comments?

You may submit comments electronically, by mail, or through hand delivery/courier. To ensure proper receipt by EPA, identify the appropriate docket ID number and specific PMN number or TME number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number OPPT-2004-0020. The system is an “anonymous access” system, which means EPA will not know your identity, e-mail address, or other contact information unless you provide it in the body of your comment.

ii. E-mail. Comments may be sent by e-mail to oppt.ncic@epa.gov, Attention: Docket ID Number OPPT-2004-0020 and PMN Number or TME Number. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Document Control Office (7407M), Office of Pollution Prevention and Toxics (OPPT), Environmental Protection Agency, 1200 Pennsylvania Ave., NW., Washington, DC 20460-0001.

3. By hand delivery or courier. Deliver your comments to: OPPT Document Control Office (DCO) in EPA East Bldg., Rm. 6428, 1201 Constitution Ave., NW., Washington, DC. Attention: Docket ID Number OPPT-20040020 and PMN Number or TME Number. The DCO is open from 8 a.m. to 4 p.m., Monday through Friday, excluding legal holidays. The telephone number for the DCO is (202) 564-8930.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the technical person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket ID number assigned to this action and the specific PMN number you are commenting on in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from February 21, 2005 to March 15, 2005, consists of the PMNs and TMEs, both pending or expired, and the notices of commencement to manufacture a new chemical that the Agency has received under TSCA section 5 during this time period.

III. Receipt and Status Report for PMNs and TMEs

This status report identifies the PMNs and TMEs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 96 Premanufacture Notices Received From: 02/21/05 to 03/15/05
Case No. | Received Date | Projected Notice End Date | Manufacturer/Importer | Use | Chemical
P-05-0335 | 02/22/05 | 05/22/05 | International Specialty Products | (S) Component in membranes to enhance hydrophilicity/hydration flux; component in coatings to enhance adhesion of coating to the substrate; component in adhesives to enhance adhesive coatings on synthetic substrates; component in cleaners used as a thickener | (S) 2-propenoic acid, 2-metyhl-, dodecyl ester, polymer with 1-ethenyl-2-pyrrolidinone and 2-propenoic acid
P-05-0336 | 02/22/05 | 05/22/05 | CBI | (S) Use as a herbicide safener in formulated pesticide products | (G) Isoxadifen-ethyl
P-05-0337 | 02/22/05 | 05/22/05 | CBI | (G) Polymer is applied as a functional coating over inorganic solids. | (G) Diphenylcaprylmethicone
P-05-0338 | 02/23/05 | 05/23/05 | Tremco Inc. | (G) Water-proofing sealant additive | (G) Alkylene ether amine, blocked
P-05-0339 | 02/23/05 | 05/23/05 | Falcon Lab LLP | (S) Adjuvant for pesticides | (S) Nonanoic acid, ammonium salt
P-05-0340 | 02/24/05 | 05/24/05 | Eftec North America, L.L.C. | (G) Automobile coating | (G) Blocked polyurethane
P-05-0341 | 02/24/05 | 05/24/05 | Eftec North America, L.L.C. | (G) Automobile coating | (G) Blocked polyurethane
P-05-0342 | 02/24/05 | 05/24/05 | CBI | (G) Coating and ink ingredient | (G) Glycerides, alkyl mono, di- and tri-, alkoxylated
P-05-0343 | 02/24/05 | 05/24/05 | CBI | (G) Surface coating resin | (G) Siloxanes and silicones, di-methyl, alkoxy aryl, polymers with aryl silsesquioxanes, alkoxy-terminated, polymers with epichlorohydrin and 4,4′-(1-alkylidene) bis [cycloalkanol]
P-05-0344 | 02/25/05 | 05/25/05 | E.I. Du Pont De Nemours and Company Inc. | (G) Intermediate | (G) Polyether glycol
P-05-0345 | 02/25/05 | 05/25/05 | E.I. Du Pont De Nemours and Company Inc. | (G) Intermediate | (G) Copolyether glycol
P-05-0346 | 02/24/05 | 05/24/05 | CBI | (G) An open non-dispersive use | (G) Polyester resin
P-05-0347 | 02/25/05 | 05/25/05 | Ashland Inc., Environmental Health and Safety | (G) The material performs as a flexibilizer for epoxy vinyl ester resins | (G) Poly[oxy(alkyldiyl), .alpha.-hydro-.omega.-hydroxy-, acrylated-blocked polymer with 1,1′-methylenebis[isocyanatobenzene],
P-05-0348 | 02/24/05 | 05/24/05 | CBI | (G) Fluid retention polymer | (G) Dialkyldiallylsodium halide with unsaturated phosphonic acid, acrylamido alkyl propane sulfonic acid sodium salt, and two substituted monomers.
P-05-0349 | 02/24/05 | 05/24/05 | CBI | (G) Fluid retention polymer | (G) Dialkyldiallylsodium halide with unsaturated phosphonic acid, acrylamido alkyl propane sulfonic acid sodium salt, and two substituted monomers.
P-05-0350 | 02/25/05 | 05/25/05 | CBI | (S) Toner binder | (G) Polyester resin
P-05-0355 | 02/28/05 | 05/28/05 | Ashland Inc., Enviornmental Health and Safety | (G) Two-component laminating adhesive designed to exhibit improved adhesion to metal surfaces and improved resistance to heat exposure. | (G) Poly(oxy-1,2-ethanediyl), .alpha.-hydro-.omega.-hydroxy-, polymer with alkyl diisocyanate
P-05-0356 | 03/01/05 | 05/29/05 | KAO Specialties Americas LLC | (S) Emulsifier in metalworking fluids; thickener and foam booster in dishwashing agent and car shampoo | (S) Amides, canola-oil, n-(hydroxyethyl), ethoxylated
P-05-0357 | 02/28/05 | 05/28/05 | Eastman Kodak Company | (G) Chemical intermediate, destructive use | (S) Pentadecane, 7-(bromomethyl)-
P-05-0358 | 02/28/05 | 05/28/05 | 3M | (G) Textile treatment additive. | (G) Polycarbodiimide
P-05-0359 | 03/02/05 | 05/30/05 | CBI | (G) Crosslinker | (G) Isocyanate acid, polyalkylenepolyphenyylene ester, 2-(2-alkoxy)alkanol-and alkylene glycol-blocked
P-05-0360 | 03/02/05 | 05/30/05 | CBI | (G) Printing ink | (G) 7h-pyrazolo [1,5-b] [1,2,4] triazole derivative
P-05-0361 | 03/02/05 | 05/30/05 | CBI | (G) Chemical additive | (G) Siloxanes and silicones, di-methyl, 3-(2-hydroxyalkoxy)-1-[(2-hydroxyalkoxy)alkyl]-1-alkenyl methyl
P-05-0362 | 03/02/05 | 05/30/05 | CMP Coatings, Inc. | (S) Paint additive | (G) Reaction products with dimethyl octatriene
P-05-0363 | 03/03/05 | 05/31/05 | CBI | (G) Open non-dispersive (coatings additive) | (G) Aliphatic, blocked polyisocyanate
P-05-0364 | 03/03/05 | 05/31/05 | IGM Resins Inc | (S) Cationic ultra violet-initiator for production of ultra violet-curable dvd-adhesives; cationic utlra violet-initiator for production of ultra violet-curable can coatings; cationic ultra violet-initiator for production of ultra violet-curable flexographic ink | (S) 9h-thioxanthenium, 10-[1,1′-biphenyl]-4-yl-2-(1-methylethyl)-9-oxo-, hexafluorophosphate(1-)
P-05-0365 | 03/04/05 | 06/01/05 | CBI | (G) Paint primer for metal substrates; corrosion inhibitor for metal substrates | (G) Substituted aliphatic amine
P-05-0366 | 03/04/05 | 06/01/05 | Eastman Kodak Company | (G) Chemical intermediate, destructive use | (G) Substituted phenylsulfonyl, substituted acid chloride
P-05-0367 | 03/04/05 | 06/01/05 | CBI | (G) Coating component | (G) Mixed metal oxide complex
P-05-0368 | 03/04/05 | 06/01/05 | CBI | (G) Resin coating | (G) Alkanoic acid, 2-hydroxy-, ion(1-), salt with bisphenol a-bisphenola-epichlorohydrin polymer alkanoate-2-(dialkylamino)alkanol-2-alkyl-1-alkanol-toluene diisocyanate reaction products
P-05-0369 | 03/04/05 | 06/01/05 | CBI | (G) Automotive coatings | (G) Acrylic polymer
P-05-0370 | 03/04/05 | 06/01/05 | CBI | (G) Automotive coatings | (G) Acrylic polymer
P-05-0371 | 03/04/05 | 06/01/05 | CBI | (G) Automotive coatings | (G) Acrylic polymer
P-05-0372 | 03/04/05 | 06/01/05 | CBI | (G) Automotive coatings | (G) Acrylic polymer
P-05-0373 | 03/04/05 | 06/01/05 | CBI | (G) Automotive coatings | (G) Acrylic polymer
P-05-0374 | 03/04/05 | 06/01/05 | CBI | (G) Automotive coatings | (G) Acrylic polymer
P-05-0375 | 03/04/05 | 06/01/05 | CBI | (G) Pigment dispersant | (G) Sma ester potassium salt
P-05-0376 | 03/04/05 | 06/01/05 | CBI | (G) Pigment dispersant | (G) Sma ester sodium salt
P-05-0377 | 03/04/05 | 06/01/05 | Henkel Consumer Adhesives Inc. | (S) Adhesive and sealant | (G) Silane terminated polyurethane
P-05-0378 | 03/07/05 | 06/04/05 | Ashland Inc., Enviornmental Health and Safety | (G) Acrylic component of industrial coatings and adhesive applications | (G) B-keto ester, polymer with 2-ethyl-2-[[(1-oxo-2-propenyl)oxy]methyl]-1,3-propanediyl di-2-propenoate and 2-hydroxyethyl 2-propenoate, polymer with krasol lbd 2000
P-05-0379 | 03/07/05 | 06/04/05 | Forbo Adhesives, LLC | (G) Hot melt adhesive | (G) Isocyanate functional polyester urethane polymer
P-05-0380 | 03/07/05 | 06/04/05 | Ashland Inc., Enviornmental Health and Safety | (G) Roofing adhesive for bonding roof membranes (such as pvc, tpo) to substrates (such as insulation boards or concrete surfaces) | (G) Benzene, 1,1′-methylenebis[4-isocyanato-, polymer with benzenedicarboxylic acid, butyl dialkyl ester, poly[oxy(methyl-1,2-ethanediyl)], .alpha.-hydro--hydroxy-, oxirane, alkyll-, polymer with oxirane, ether with propanepolyol and sartomer's hlbh p-3000 and lexorez 1180
P-05-0381 | 03/04/05 | 06/01/05 | Ge Betz | (G) Component in a non-chrome treatment for metals. | (G) Phosphonated polyamine
P-05-0382 | 03/04/05 | 06/01/05 | Ge Betz | (G) Component in a non-chrome treatment for metals. | (G) Phosphonated polyamine
P-05-0383 | 03/04/05 | 06/01/05 | Ge Betz | (G) Component in a non-chrome treatment for metals. | (G) Phosphonated polyamine
P-05-0384 | 03/04/05 | 06/01/05 | Ge Betz | (G) intermediate | (G) Polyamine phosphate salt
P-05-0385 | 03/04/05 | 06/01/05 | Ge Betz | (G) intermediate | (G) Polyamine hydrochloride salt
P-05-0386 | 03/07/05 | 06/04/05 | Ashland Inc., Enviornmental Health and Safety | (G) Adhesive, coating, ink | (G) .beta.-ketoester, polymers with bisphenol a diglycidyl ether homopolymer diacrylate 3-(C10-16-alkyloxy)-2-hydroxypropyl ethers and alkyl diacrylate, reaction products with monoalkyl acrylate
P-05-0387 | 03/07/05 | 06/04/05 | Ashland Inc., Enviornmental Health and Safety | (G) Adhesive, coating, ink | (G) .beta.-ketoester, polymer with (chloromethyl)oxirane polymer with 4,4′-(1-methylethylidene)bis[phenol] 2-propenoate and alkyl diacrylate, reaction products with monoalkyl acrylate a and monoalkyl acrylate b
P-05-0388 | 03/07/05 | 06/04/05 | Ashland Inc., Enviornmental Health and Safety | (G) Adhesive, coating, ink | (G) .beta.-ketoester, polymer with cn 115, 2-propenoic acid, oxybis(methyl-2,1-ethanediyl) ester and cyclic alkyl monoacrylate
P-05-0389 | 03/07/05 | 06/04/05 | Ashland Inc., Enviornmental Health and Safety | (G) Adhesive, coating, ink | (G) .beta.-ketoester, polymers with bisphenol a diglycidyl ether homopolymer diacrylate 3-(C10-16-alkyloxy)-2-hydroxypropyl ethers and alkyl diacrylate, reaction products with monoalkyl acrylate
P-05-0390 | 03/07/05 | 06/04/05 | Ashland Inc., Enviornmental Health and Safety | (G) Adhesive, coating, ink | (G) .beta.-ketoester, polymer with (chloromethyl)oxirane polymer with 4,4′-(1-methylethylidene) bis[phenol]2-propenoate and alkyl diacrylate, reaction products with monoalkyl acrylate a and monoalkyl acrylate b
P-05-0391 | 03/07/05 | 06/04/05 | Ashland Inc., Enviornmental Health and Safety | (G) Adhesive, coating, ink | (G) .beta.-ketoester, polymers with cn 115, 2-propenoic acid, oxybis(methyl-2,1-ethanediyl) ester and cyclic alkyl monoacrylate
P-05-0392 | 03/07/05 | 06/04/05 | Ashland Inc., Enviornmental Health and Safety | (G) Adhesive, coating, ink, over-print varnish | (G) .beta.-ketoesters, polymers with bisphenol a diglycidyl ether homopolymer diacrylate 3-(C10-16)-alkyloxy)-2-hydroxypropyl ethers, 1,6-hexanediol diacrylate, polyethylene glycol monoacrylate ether with trimethylolpropane (3:1), and amine acrylate, reaction products with alkyl amine and alkanol amine
P-05-0393 | 03/07/05 | 06/04/05 | Ashland Inc., Enviornmental Health and Safety | (G) Adhesive, coating, ink, over-print varnish | (G) .beta.-ketoesters, polymers with bisphenol a diglycidyl ether homopolymer diacrylate 3-(C10-16)-alkyloxy)-2-hydroxypropyl ethers, 1,6-hexanediol diacrylate, polyethylene glycol monoacrylate ether with trimethylolpropane (3:1), and alkyl acrylate, reaction products with alkyl amine and alkanol amine
P-05-0394 | 03/07/05 | 06/04/05 | Ashland Inc., Enviornmental Health and Safety | (G) Adhesive, coating, ink, over-print varnish | (G) .beta.-ketoesters, polymers with aromatic epoxy acrylate, 1,6-hexanediol diacrylate, polyethylene glycol monoacrylate ether with trimethylolpropane (3:1), and amine acrylate, reaction products with alkyl amine and alkanol amine
P-05-0395 | 03/07/05 | 06/04/05 | Ashland Inc., Enviornmental Health and Safety | (G) Adhesive, coating, ink, over-print varnish | (G) .beta.-ketoesters, polymers with aromatic epoxy acrylate, 1,6-hexanediol diacrylate, polyethylene glycol monoacrylate ether with trimethylolpropane (3:1), and alkyl acrylate, reaction products with alkyl amine and alkanol amine
P-05-0396 | 03/07/05 | 06/04/05 | Ashland Inc., Enviornmental Health and Safety | (G) Adhesive, coating, ink, over-print varnish | (G) .beta.-ketoester and .beta.-diketone, polymers with bisphenol a diglycidyl ether homopolymer diacrylate 3- (C10-16)-alkyloxy)-2-hydroxypropyl ethers, 1,6-hexanediol diacrylate, polyethylene glycol monoacrylate ether with trimethylolpropane (3:1), and amine acrylate, reaction products with alkyl amine and alkanol amine
P-05-0397 | 03/07/05 | 06/04/05 | Ashland Inc., Enviornmental Health and Safety | (G) Adhesive, coating, ink, over-print varnish | (G) .beta.-ketoester and .beta.-diketone, polymers with bisphenol a diglycidyl ether homopolymer diacrylate 3- (C10-16)-alkyloxy)-2-hydroxypropyl ethers, 1,6-hexanediol diacrylate, polyethylene glycol monoacrylate ether with trimethylolpropane (3:1), and alkyl acrylate, reaction products with alkyl amine and alkanol amine
P-05-0398 | 03/08/05 | 06/05/05 | Kemira Chemicals, Inc. | (G) Dispersive use (e.g., paper manufacturing) | (G) Fatty acids, C16-18 and C18-unsaturated reaction products with triethanolamine, dimethyl sulfate-quaternized
P-05-0399 | 03/08/05 | 06/05/05 | Kemira Chemicals, Inc. | (G) Dispersive use (e.g., paper manufacturing) | (G) Fatty acids, C16-18 and C18-unsataurated reaction products with triethanolamine, methyl chloride-quaternized
P-05-0400 | 03/08/05 | 06/05/05 | Firmenich Inc. | (S) Aroma chemical for use in fragrance mixtures, that in turn are used in perfumes, soaps, cleaners, etc. | (S) 1-butanone, 3-(dodecylthio)-1-(2,6,6-trimethyl-3-cyclohexen-1-yl)-
P-05-0401 | 03/09/05 | 06/06/05 | Forbo Adhesives, LLC | (G) Hot melt polyurethane adhesive | (G) Isocyanate functional polyester acrylic polyether urethane polymer
P-05-0402 | 03/08/05 | 06/05/05 | CBI | (G) Paper additive | (G) Arene,alkenyl-, homopolymer, hydroxyaromatic carboxylic acid-terminated, metal complexes
P-05-0403 | 03/08/05 | 06/05/05 | CBI | (G) Paper additive | (G) Alkylaldehyde, polymer with alkylarenol, hydroxyaromatic carboxylic acid-terminated, metal complexes
P-05-0404 | 03/09/05 | 06/06/05 | CBI | (G) Open non-dispersive use | (G) Polymer modified rosin.
P-05-0405 | 03/10/05 | 06/07/05 | Eastman Kodak Company | (G) Contained use in an article | (G) Substituted phenylsulfonyl, halosubstituted benzamide
P-05-0406 | 03/10/05 | 06/07/05 | Eastman Kodak Company | (G) Chemical intermediate, destructive use | (G) Substituted naphthalenedisulfonic acid
P-05-0407 | 03/10/05 | 06/07/05 | CBI | (G) Polyester resin | (G) Poyester
P-05-0408 | 03/10/05 | 06/07/05 | CBI | (G) Polyester resin | (G) Poyester
P-05-0409 | 03/10/05 | 06/07/05 | CBI | (G) Polyester resin | (G) Poyester
P-05-0410 | 03/10/05 | 06/07/05 | CBI | (G) Polyester resin | (G) Poyester
P-05-0411 | 03/11/05 | 06/08/05 | CBI | (G) Coating resin | (G) Phenol, 4,4′-(1-alkylalkylidene)bis-, reaction products with bisphenol a-epichlorohydrin polymer alkanoate, dialkylenetriamine, 2-(alkylamino)alkanol, 1,1′-alkylenebis[4-isocyanatobenzene] and polyalkylene glycol ether with bisphenol a (2:1)
P-05-0412 | 03/11/05 | 06/08/05 | IGM Resins Inc | (S) Free radical - initiator for production of ultra violet-curable offset inks; free radical - initiator for production of ultra violet-curable wood coatings; free radical -initiator for production of ultra violet curable flexographic ink | (S) Poly(oxy-1,4-butanediyl), .alpha.-[[(9-oxo-9h-thioxanthenyl)oxy]acetyl]-.omega.-[[[(9-oxo-9h-thioxanthenyl)oxy]acetyl]oxy]-
P-05-0413 | 03/11/05 | 06/08/05 | IGM Resins Inc | (S) Free radical - initiator for production of ultra violet-curable offset inks; free radical - initiator for production of ultra violet-curable wood coatings; free radical -initiator for production of ultra violet curable flexographic ink | (S) Poly(oxy-1,4-butanediyl),.alpha.-[(4-benzoylphenoxy)acetyl]-.omega.-[[(4-benzoylphenoxy)acetyl]oxy]-
P-05-0414 | 03/14/05 | 06/11/05 | International Specialty Products | (S) Intermediate in the production of styleze w-20 / styleze w-10 | (S) 1-dodecanaminium, n,n-dimethyl-n-[3-[(2-methyl-1-oxo-2-propenyl)amino]propyl]-, chloride
P-05-0415 | 03/11/05 | 06/08/05 | CBI | (G) Automotive coatings | (G) Acrylic polymer
P-05-0416 | 03/11/05 | 06/08/05 | CBI | (G) Automotive coatings | (G) Acrylic polymer
P-05-0417 | 03/14/05 | 06/11/05 | Cytec Industries Inc. | (G) crosslinking resin | (G) Tris-alkyl-alkoxy melamine polymer
P-05-0418 | 03/15/05 | 06/12/05 | Lubrizol Metalworking Additives | (S) Anti-corrosion additive for metalworking fluids | (S) Hexanoic acid, 6,6′6′′-(1,3,5-triazin-2,4,6-triyltriimino) tris-, compound with 2-aminoethanol
P-05-0419 | 03/15/05 | 06/12/05 | Lubrizol Metalworking Additives | (S) Anti-corrosion additive for metalworking fluids | (S) Hexanoic acid, 6,6′6′′-(1,3,5-triazin-2,4,6-triyltriimino)tris-, compound with 2-amino-2-methyl-1-propanol
P-05-0420 | 03/15/05 | 06/12/05 | Lubrizol Metalworking Additives | (S) Anti-corrosion additive for metalworking fluids | (S) Hexanoic acid, 6,6′6′′-(1,3,5-triazin-2,4,6-triyltriimino)tris-, compound with 1-amino-2-propanol
P-05-0421 | 03/15/05 | 06/12/05 | Lubrizol Metalworking Additives | (S) Anti-corrosion additive for metalworking fluids | (S) Hexanoic acid, 6,6′6′′-(1,3,5-triazin-2,4,6-triyltriimino)tris-, compound with 1,1′,1′′ -nitrilotris [2-propanol]
P-05-0422 | 03/15/05 | 06/12/05 | Lubrizol Metalworking Additives | (S) Anti-corrosion additive for metalworking fluids | (S) Hexanoic acid, 6,6′6′′-(1,3,5-triazin-2,4,6-triyltriimino)tris-, compound with 1,1′-iminobis[2-propanol]
P-05-0423 | 03/15/05 | 06/12/05 | Lubrizol Metalworking Additives | (S) Anti-corrosion additive for metalworking fluids | (S) Hexanoic acid, 6,6′,6′′-(1,3,5-triazine-2,4,6-triyltriimino)tris-, compound with 2-(2-aminoethoxy) ethanol
P-05-0424 | 03/15/05 | 06/12/05 | Eftec North America, L.L.C. | (G) Automobile coating | (G) Nh2-terminated polyurethane prepolymer
P-05-0425 | 03/15/05 | 06/12/05 | Cytec Surface Specialties Inc. | (S) Binder for paints and coatings | (G) 2-propenoic acid, 2-methyl-, 2-hydroxyalkyl ester, polymer with butyl 2-propenoate, ethenylbenzene, 4-hydroxybutyl 2-propenoate, 2-methylpropyl 2-methyl-2-propenoate, and 2-oxepanone and 2-propenoic acid, tert-bu 2-ethylhexaneperoxoate-initiated, compounds with 2-(dimethylamino)ethanol
P-05-0426 | 03/15/05 | 06/12/05 | Cytec Surface Specialties Inc. | (S) Binder for paints coatings | (G) 2-propenoic acid, 2-methyl-, alkyl ester, polymer with butyl 2-propenoate, ethenylbenzene, and 2-propenoic acid, tert-bu 2-ethylhexaneperoxoate-initiated, compounds with 2-(dimethylamino)ethanol
P-05-0427 | 03/15/05 | 06/12/05 | CBI | (G) Chemical intermediate | (G) Polyketone oligomer
P-05-0428 | 03/15/05 | 06/12/05 | Cytec Surface Specialties Inc. | (S) Binder for paints and coatings | (G) 1,3-benzenedicarboxylic acid, polymer with 1,3-diisocyanatomethylbenzene, 2-ethyl-2-(hydroxymethyl)-1,3-propanediol, hexanedioic acid, 1,6-hexanediol, 3-hydroxy-2-(hydroxymethyl)-2-methylpropanoic acid, 5-isocyanato-1-(isocyanatomethy l)-1,3,3-trimethylcyclohexane, and (alkylidene)bis[cyclohexanol], 3-oxobutanoate, compound with n,n-diethylethanamine
P-05-0429 | 03/15/05 | 06/12/05 | Cytec Surface Specialties Inc. | (S) Resin for industrial paints | (G) Modified fatty acids, polymer with 1,6-hexanediol, isophthalic acid, and trimellitic anhydride
P-05-0430 | 03/15/05 | 06/12/05 | CBI | (G) Stabilizing additive for polymers | (G) Substituted benzotriazole
P-05-0431 | 03/15/05 | 06/12/05 | CBI | (G) Lubricant additive | (G) 2,5-furandione, polymer with ethane and 1-propene, reaction product with aryl amine
P-05-0432 | 03/15/05 | 06/12/05 | DIC International (USA), Inc. | (G) Adhesives | (G) Alkanedioic acid, polymer with amine, alkanediols, caprolactone, dialkyl ester of sulfated aromatic dicarboxylic acid, sodium salt, hydroxy substituted alkane, isocyanates and alkanetriol.
P-05-0437 | 03/15/05 | 06/12/05 | Cytec Surface Specialties Inc. | (S) Binder for paints and coatings | (G) 2-propenoic acid, 2-methyl-, 2-hydroxyethyl ester, polymer with butyl 2-propenoate, ethenylbenzene, 4-hydroxybutyl 2-propenoate 2-methylpropyl 2-methyl-2-propenoate, and 2-oxepanone, tert-bu 2-ethylhexaneperoxoate-initiated

In Table II of this unit, EPA provides the following information (to the extent that such information is not claimed as CBI) on the TMEs received:

II. 1 Test Marketing Exemption Notices Received From: 02/21/05 to 03/16/05
Case No. | Received Date | Projected Notice End Date | Manufacturer/Importer | Use | Chemical
T-05-0003 | 03/14/05 | 04/27/05 | CBI | (G) Polyurethane's market | (G) Soy polyol

In Table III of this unit, EPA provides the following information (to the extent that such information is not claimed as CBI) on the Notices of Commencement to manufacture received:

III. 49 Notices of Commencement From: 02/21/05 to 03/15/05
Case No. | Received Date | Commencement Notice End Date | Chemical
P-00-0536 | 03/09/05 | 02/21/05 | (G) Reaction product of: polyoxyalkylene solution with trimethylolpropane, 1,4, cyclohexane dimethanol, cyclic aliphatic anhydrides, trimellitic anhydride and block copolymers of ethylene oxide + propylene oxide
P-00-0537 | 03/09/05 | 02/28/05 | (G) Reaction product: polyoxyalkylene solution with trimethylolpropane, 1,4 cyclohexane dimethanol, cyclic aliphatic anhydrides and trimellitic anhydride
P-03-0698 | 03/03/05 | 02/15/05 | (G) Rosin, polymer with a monocarboxylic acid, alkylphenols, formaldehyde, maleic anhydride and pentaerythritol.
P-03-0715 | 03/08/05 | 03/01/05 | (G) Dialkyl dimethyl ammonium carbonate (1:1)
P-03-0716 | 03/08/05 | 03/01/05 | (G) Dialkyl dimethyl ammonium carbonate (2:1)
P-03-0849 | 03/03/05 | 02/22/05 | (G) Aqueous polyurethane dispersion
P-03-0866 | 03/14/05 | 02/16/05 | (S) Siloxanes and silicones, di-methyl, polymers with 3-[(2-aminoethyl)amino]propyl ph silsesquioxanes, methoxy-terminated
P-04-0421 | 03/04/05 | 02/17/05 | (G) Polyester polycarbamate
P-04-0436 | 03/10/05 | 03/01/05 | (G) Urethane acrylate
P-04-0462 | 03/09/05 | 02/14/05 | (G) Polyurethane prepolymer
P-04-0475 | 03/09/05 | 02/02/05 | (G) Alkyl methacrylate copolymer
P-04-0495 | 02/23/05 | 09/27/04 | (G) Direct black azo dye
P-04-0498 | 02/23/05 | 09/27/04 | (G) Direct black azo dye
P-04-0573 | 03/03/05 | 02/12/05 | (G) Aliphatic polyisocyanate
P-04-0584 | 02/25/05 | 01/20/05 | (G) Maleic anhydride and acrylics modified polyolefin
P-04-0634 | 03/09/05 | 03/02/05 | (G) Reaction product of: isophorone diisocyanate, aliphatic diamine, .beta.hydro-.omega.-hydroxypoly (oxy-1,4-butanediyl) and aliphatic hydroxy functional polyols.
P-04-0675 | 03/01/05 | 02/10/05 | (G) N,n,n-trialkyl-alkylaminium, n-aminocarbonylalkenyl, chloride, polymer with n-sulfoalkyl-aminocarbonylalkenyl, sodium salt and aminocarbonylalkenyl
P-04-0676 | 03/01/05 | 02/10/05 | (G) N,n,n-trialkyl-alkylaminium, n-aminocarbonylalkenyl, chloride, polymer with n-sulfoalkyl-aminocarbonylalkenyl, sodium salt and aminocarbonylalkenyl
P-04-0692 | 02/28/05 | 02/10/05 | (G) Trifunctional acrylic ester
P-04-0693 | 03/15/05 | 02/10/05 | (G) Urethane acrylate oligomer
P-04-0715 | 02/24/05 | 02/08/05 | (G) Acrylic copolymer
P-04-0745 | 02/23/05 | 01/28/05 | (G) Organosilane ester
P-04-0746 | 02/23/05 | 01/28/05 | (G) Amino phenolic reaction product with polyvinylphenol
P-04-0751 | 03/09/05 | 02/10/05 | (G) Alkanedioic acid, polymer with 2-ethyl-2-(hydroxymethyl)-1,3-propanediol, 1,3-isobenzofurandione and 2-methyl-1,3-propanediol, 2-hydroxy-3-[(1-oxoneodecyl)oxy]propyl ester
P-04-0763 | 03/01/05 | 02/10/05 | (G) Polycarboxylate polymer with alkenyloxyalkylol modified poly(oxyalkylenediyl), calcium sodium salt
P-04-0764 | 03/01/05 | 02/10/05 | (G) Polycarboxylate polymer with alkenyloxyalkylol modified poly(oxyalkylenediyl), sodium salt
P-04-0797 | 02/22/05 | 01/28/05 | (G) Poly acrylic dispersion peroxide initiated poly acrylic esters with amine salt.
P-04-0802 | 02/23/05 | 02/08/05 | (G) Isocyanate terminated urethane polymer
P-04-0817 | 03/04/05 | 02/23/05 | (G) Trimethyl acyclic alkenones
P-04-0818 | 03/10/05 | 02/23/05 | (G) Urethane acrylate
P-04-0832 | 02/23/05 | 02/11/05 | (S) Bicyclo[2.2.1]heptan-2-ol, 2-ethyl-1,3,3-trimethyl-
P-04-0839 | 02/25/05 | 02/08/05 | (G) Copolymer of acrylic acid and maleic acid
P-04-0840 | 02/25/05 | 02/11/05 | (G) Copolymer of maleic acid and styrene
P-04-0841 | 02/25/05 | 02/14/05 | (G) Copolymer of maleic acid and styrene
P-04-0842 | 02/25/05 | 02/08/05 | (G) Copolymer of maleic acid and styrene
P-04-0843 | 02/25/05 | 02/11/05 | (G) Copolymer of acrylic acid and styrene
P-04-0872 | 02/23/05 | 01/25/05 | (G) Aromatic polyester polyurethane prepolymer based on mdi
P-04-0877 | 03/15/05 | 03/04/05 | (G) Substituted ppvs (poly-p-phenylen-vinylens)
P-04-0879 | 02/23/05 | 01/24/05 | (G) C11-17 hydrocarbons
P-04-0911 | 02/24/05 | 01/24/05 | (G) Aryl-substituted diether propane
P-04-0960 | 03/11/05 | 02/14/05 | (G) Biphenyl-bis(azo-acetoaceto-benzoate)
P-05-0040 | 03/04/05 | 01/24/05 | (G) Modified starch-acrylate polymer
P-05-0066 | 02/23/05 | 02/16/05 | (G) Polyester polyurethane
P-05-0071 | 03/10/05 | 02/16/05 | (G) Telechelic polyacrylates
P-05-0077 | 02/23/05 | 02/18/05 | (S) Siloxanes and silicones, di-methyl, 3-hydroxypropyl methyl, ethers with polyethylene glycol and polyethylene glycol mono(2-carboxyethyl) ether, polymers with 1,1′-methylenebis[4-isocyanatocyclohexane]
P-05-0103 | 02/22/05 | 02/07/05 | (G) Halo phenyl amino substituted cyclohexene salt
P-05-0111 | 02/25/05 | 02/22/05 | (G) Toluylenediisocyanate, reaction product with benzenedimethanamine and methoxypolyethylene glycol
P-05-0113 | 02/25/05 | 02/22/05 | (G) Polyethylene-polypropylene glycol, reaction product with octadecylisocyanate
P-95-0482 | 03/15/05 | 02/23/05 | (G) Condensation polyester of glycols and diacids

List of Subjects

Environmental protection, Chemicals, Premanufacturer notices.

Dated: March 30, 2005.
Vicki A. Simons,
Acting Director, Information Management Division, Office of Pollution Prevention and Toxics.

[FR Doc. 05-6854 Filed 4-7-05; 8:45 am]

BILLING CODE 6560-50-S